DEPARTMENT OF HEALTH AND HUMAN SERVICES

Administration for Children and Families

Expedited OMB Review and Public Comment: Office of Community Services Data Collection for the Low Income Household Water Assistance Program Reports (New Collection)

AGENCY: Office of Community Services, Administration for Children and Families, HHS.

ACTION: Request for public comment.

SUMMARY: The Office of Community Services, Administration for Children and Families (ACF), U.S. Department of Health and Human Services (HHS), is requesting expedited review of an information collection request from the Office of Management and Budget (OMB) and inviting public comment on the proposed collection. The proposed forms are necessary to provide data to the Administration and Congress in its oversight of recipients' performance in administering the Low Income Household Water Assistance Program (LIHWAP) program. The information collection is essential to the mission of the agency for this emergency assistance effort and the use of normal clearance procedures is reasonably likely to disrupt and prevent the collection of information.

DATES: Comments due within 60 days of publication. In compliance with the requirements of the Paperwork Reduction Act of 1995, ACF is soliciting public comment on the specific aspects of the information collection described in this notice.

ADDRESSES: Copies of the proposed collection of information can be obtained and comments may be submitted by emailing infocollection@acf.hhs.gov. All requests should identify the title of the information collection.

SUPPLEMENTARY INFORMATION:

Description: ACF is requesting that OMB grant a 180-day approval for this request under procedures for expedited processing. A request for review under normal procedures will be submitted within 180 days of the approval for this request. The LIHWAP effort was authorized under two separate appropriations as part of an emergency effort to prevent and respond to COVID-19: The Consolidated Appropriations Act, 2021 (Pub. L. 116-260) and the American Rescue Plan Act of 2021 (Pub. L. 117-2). As a result of the emergency nature, the timeline to implement the program was very short and the time to develop and submit related performance measures is similarly short. The proposed LIHWAP Quarterly Performance and Management Report and the LIHWAP Annual Report are conducted in accordance with the LIHWAP statute (Pub. L. 116-260) and will provide ACF and Congress information necessary for oversight of recipients' performance in administering the LIHWAP program. The completeness, accuracy, consistency, and timeliness of responses to data collections are needed for the agency to do the following:

• Ensure that LIHWAP, an emergency and temporary program, is implemented effectively and efficiently;

• Provide reliable and complete fiscal and household data for OCS analysis and reporting to Congress and the public; and

• Respond to questions from the Congress, Department, OMB, White House, and other interested parties in a timely and accurate manner.

This information collection package also includes a burden estimate related to the information collected from households. While grant recipients will collect necessary information from households using a variety of intake systems and local forms, OCS is providing technical assistance in this area and has included a sample application template in supplementary materials. This is a sample template; there will be no mandated household application format and OCS will not receive or analyze copies of individual household application materials.

Respondents: LIHWAP grant recipients.

Annual Burden Estimates
Instrument | Total number of respondents | Total number of responses per respondent | Average burden hours per response | Total burden hours | Annual burden hours
Quarterly Report | 157 | 4 | 13 | 8,164 | 8,164
Annual Report | 157 | 2 | 211 | 66,254 | 33,127
Household Application | 1,200,000 | 1 | .5 | 600,000 | 200,000
Estimated Total Annual Burden Hours: 241,291 (for first year with Quarterly reports), 233,127 (for subsequent years without Quarterly reports).

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

Authority: Public Law 116-260 and LIHWAP Terms and Conditions Section 10 (https://www.acf.hhs.gov/sites/default/files/documents/LIHWAP%20Terms%20and%20Conditions%20for%20States.pdf).

Mary B. Jones,
ACF/OPRE Certifying Officer.

[FR Doc. 2021-23271 Filed 10-25-21; 8:45 am]

BILLING CODE 4184-86-P